DEPARTMENT OF LABOR

Agency Information Collection Activities; Submission for OMB Review; Comment Request; Mental Health Parity and Addiction Equity Act Notices

ACTION: Notice of availability; request for comments.

SUMMARY: The Department of Labor (DOL) is submitting the Employee Benefits Security Administration (EBSA) sponsored information collection request (ICR) revision titled, “Mental Health Parity and Addiction Equity Act Notices,” to the Office of Management and Budget (OMB) for review and approval for use in accordance with the Paperwork Reduction Act (PRA) of 1995. Public comments on the ICR are invited.

DATES: The OMB will consider all written comments that agency receives on or before June 22, 2018.

ADDRESSES: A copy of this ICR with applicable supporting documentation; including a description of the likely respondents, proposed frequency of response, and estimated total burden may be obtained free of charge from the RegInfo.gov website at http://www.reginfo.gov/public/do/PRAViewICR?ref_nbr=201706-1210-001 (this link will only become active on the day following publication of this notice) or by contacting Michel Smyth by telephone at 202-693-4129, TTY 202-693-8064, (these are not toll-free numbers) or sending an email to DOL_PRA_PUBLIC@dol.gov.

Submit comments about this request by mail to the Office of Information and Regulatory Affairs, Attn: OMB Desk Officer for DOL-EBSA, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW, Washington, DC 20210; or by email: DOL_PRA_PUBLIC@dol.gov.

FOR FURTHER INFORMATION CONTACT: Michel Smyth by telephone at 202-693-4129, TTY 202-693-8064 (these are not toll-free numbers) or sending an email to DOL_PRA_PUBLIC@dol.gov.

SUPPLEMENTARY INFORMATION: This ICR seeks approval under the PRA for revisions to the Mental Health Parity and Addiction Equity Act (MHPAEA) Notices information collection. The MHPAEA generally requires that the financial requirements and treatment limitations imposed on mental health and substance use disorder (MH/SUD) benefits cannot be more restrictive than the predominant financial requirements and treatment limitations that apply to substantially all medical and surgical benefits. The MHPAEA and its implementing regulations at 29 CFR 2590.712(d)(2) provide that a plan or issuer must disclose the criteria for medical necessity determinations with respect to MH/SUD benefits to any current or potential participant, beneficiary, or contracting provider upon request and must disclose the reason for any denial of reimbursement or payment for services with respect to MH/SUD benefits to the participant or beneficiary. The 21st Century Cures Act, among other things, contained provisions intended to improve compliance with MHPAEA by requiring the Departments of Labor, Health and Human Services, and the Treasury to solicit feedback from the public on how to improve the process for group health plans and issuers to disclose the information required under the MHPAEA and other laws. Approval of this ICR would implement the new information collection requirements, based on the public comments. Internal Revenue Code of 1986 section 9812, Employee Retirement Income Security Act of 1974 section 712, and Public Health Service Act section 2705 authorize this information collection. See 26 U.S.C. 9812, 29 U.S.C. 1185a, and 42 U.S.C. 300gg-5.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1210-0138. The DOL notes that the authority for existing information collection requirements submitted to the OMB continue while they undergo review. New requirements would only take effect upon OMB approval. For additional substantive information about this ICR, see the related notices published in the Federal Register on May 26, 2016, 81 FR 33550, and June 20, 2017, 82 FR 28095.

Interested parties are encouraged to send comments to the OMB, Office of Information and Regulatory Affairs at the address shown in the ADDRESSES section by June 22, 2018. In order to help ensure appropriate consideration, comments should mention OMB Control Number 1210-0138. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-EBSA.

Title of Collection: Mental Health Parity and Addiction Equity Act Notices.

OMB Control Number: 1210-0138.

Affected Public: Private Sector—businesses or other for-profits and not-for-profit institutions.

Total Estimated Number of Respondents: 1,154,036.

Total Estimated Number of Responses: 1,154,036.

Total Estimated Annual Time Burden: 26,912 hours.

Total Estimated Annual Other Costs Burden: $3,247,931.

Authority: 44 U.S.C. 3507(a)(1)(D).

Dated: April 26, 2018.
Michel Smyth,
Departmental Clearance Officer.

[FR Doc. 2018-09291 Filed 5-1-18; 8:45 am]

BILLING CODE 4510-29-P